DEPARTMENT OF COMMERCE

National Oceanic and Atmospheric Administration

[I. D. 040907C]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene its Socioeconomic Panel (SEP).

DATES: The meeting will be convene at 8:30 am on Thursday, May 3, 2007, and conclude no later than 1 p.m. on Friday, May 4, 2007.

ADDRESSES: The meeting will be held at the Grand Bay Miami Hotel, 2669 S. Bayshore Dr., Miami, FL 33133, 305-858-9600.

Council address: Gulf of Mexico Fishery Management Council, 2203 North Lois Avenue, Suite 1100, Tampa, Florida 33607.

FOR FURTHER INFORMATION CONTACT: Dr. Assane Diagne, Economist, Gulf of Mexico Fishery Management Council; telephone: 813-348-1630.

SUPPLEMENTARY INFORMATION: The Gulf of Mexico Fishery Management Council (Council) will convene its Socioeconomic Panel (SEP) to discuss grouper allocation, Joint Reef Fish/Shrimp Amendment 27/14, an update on the recently implemented Red Snapper IFQ, and, recommendations of the Ad-hoc Grouper IFQ Advisory Panel. In addition, the SEP will elect its chair and vice-chair.

A copy of the agenda and related materials can be obtained by calling the Council office at 813-348-1630.

Although other non-emergency issues not on the agendas may come before the SEP for discussion, in accordance with the Magnuson-Stevens Fishery Conservation and Management Act (M-SFCMA), those issues may not be the subject of formal action during this meeting. Actions of the SEP will be restricted to those issues specifically identified in the agendas and any issues arising after publication of this notice that require emergency action under Section 305(c) of the M-SFCMA, provided the public has been notified of the Council's intent to take action to address the emergency.

These meetings are physically accessible to people with disabilities. Requests for sign language interpretation or other auxiliary aids should be directed to Tina Trezza at the Council (see ADDRESSES) at least five working days prior to the meeting.

Dated: April 9, 2007.
Tracey L. Thompson,
Acting Director, Office of Sustainable Fisheries, National Marine Fisheries Service.

[FR Doc. E7-6996 Filed 4-12-07; 8:45 am]

BILLING CODE 3510-22-S